DEPARTMENT OF COMMERCE

National Oceanic and Atmospheric Administration

[RTID 0648-XX031]

Magnuson-Stevens Act Provisions; General Provisions for Domestic Fisheries; Application for Exempted Fishing Permits

AGENCY: National Marine Fisheries Service (NMFS), National Oceanic and Atmospheric Administration (NOAA), Commerce.

ACTION: Notice; request for comments; reopening of comment period.

SUMMARY: At the request of the public, NMFS is reopening the comment period for an Exempted Fishing Permit application. The Exempted Fishing Permit would allow commercial fishing vessels to use dredge fishing gear with a forward facing camera within the Great South Channel Habitat Management Area to characterize habitat substrate types where dredge fishing occurs, and conduct compensation fishing that would support research conducted by the Coonamessett Farm Foundation. Regulations under the Magnuson-Stevens Fishery Conservation and Management Act require publication of this notification to provide interested parties the opportunity to comment on applications for proposed Exempted Fishing Permits.

DATES: Comments must be received on or before March 23, 2020.

ADDRESSES: You may submit written comments by any of the following methods:

• Email: nmfs.gar.efp@noaa.gov. Include in the subject line “CFF Great South Channel HMA Clam EFP.”

• Mail: Michael Pentony, Regional Administrator, NMFS, Greater Atlantic Regional Fisheries Office, 55 Great Republic Drive, Gloucester, MA 01930. Mark the outside of the envelope “Comments on CFF Great South Channel HMA EFP.”

FOR FURTHER INFORMATION CONTACT: Laura Hansen, Fishery Management Specialist, 978-281-9225.

SUPPLEMENTARY INFORMATION: On January 27, 2020, we published a notice soliciting public comment on an Exempted Fishing Permit (EFP) application (85 FR 4638) and received requests from the public to extend the comment period. At the request of the public, we are reopening the comment period for 15 days. A full description of the requested exemptions and research plan are available in the original notice and are not repeated here.

In an effort to address some of the New England Fishery Management Council's research priorities for the Great South Channel Habitat Management Area (GSC HMA), Coonamessett Farm Foundation (CFF) developed a multi-phase research project that would attempt to:

1. Characterize substrate types where surfclam and mussel fishing occurs within the GSC HMA;

2. Track spatiotemporal habitat change and benthic macrofauna distribution in an active fishing ground; and

3. Determine spatiotemporal occurrence of Atlantic cod and other species within the HMA that are subjected or adjacent to commercial clam and mussel dredging activities.

CFF submitted a complete application for an EFP on November 8, 2019, to enable research in support of the objective 1, above. The exemptions would authorize participating vessels to fish with dredge gear in portions of the GSC HMA in order to characterize substrate types where surfclam and mussel fishing occurs, and to enable compensation fishing, which would fund research associated with objectives 2 and 3.

We received 27 comments on the original notification and discussed the EFP request at the January 2020 New England Fishery Management Council meeting. Based on that discussion and comments received, we are reopening the comment period for an additional 15 days.

Authority: 16 U.S.C. 1801 et seq.

Dated: March 3, 2020.
Karyl K. Brewster-Geisz,
Acting Director, Office of Sustainable Fisheries, National Marine Fisheries Service.

[FR Doc. 2020-04616 Filed 3-5-20; 8:45 am]

BILLING CODE 3510-22-P